DEPARTMENT OF ENERGY

Federal Energy Regulatory Commission

[Project No. 2301-022, Montana]

PPL Montana; Notice of Availability of Environmental Assessment

August 17, 2007.

In accordance with the National Environmental Policy Act of 1969 and the Federal Energy Regulatory Commission's (Commission) regulations, 18 CFR Part 380 (Order No. 486, 52 FR 47897), the Office of Energy Projects has reviewed the application for license for the Mystic Lake Hydroelectric Project, located on West Rosebud Creek, in Stillwater and Carbon counties, Montana, and has prepared an Environmental Assessment (EA) for the project. The project occupies about 674 acres of federal lands in the Custard National Forest managed by the U.S. Forest Service.

The EA contains Commission staff's analysis of the potential environmental effects of the project and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://ferc.gov/docs-filing/esubscription.asp to be notified via email of new filings and issuances related to this or other pending projects. For assistance, contact FERC Online Support.

Consistent with the schedule included in the Commission's March 5, 2007, notice, any comments on the EA should be filed by October 1, 2007. Note that the due date in the process plan for comments on the EA was based on a 30-day comment period. We are maintaining the process plan schedule notwithstanding the early issuance of the EA. Comments on the EA should be addressed to Kimberly D. Bose, Secretary, Federal Energy Regulatory Commission, 888 First Street, NE., Washington, DC 20426. Please affix Project No. 2301-022 to all comments. Comments may be filed electronically via the Internet in lieu of paper. The Commission strongly encourages electronic filings. See 18 CFR 385.2001(a)(1)(iii) and the instructions on the Commission's Web site (http://www.ferc.gov) under the “e-Filing” link.

For further information, contact Steve Hocking at (202) 502-8753 or steve.hocking@ferc.gov.

Kimberly D. Bose,
Secretary.

[FR Doc. E7-16750 Filed 8-23-07; 8:45 am]

BILLING CODE 6717-01-P